DEPARTMENT OF THE INTERIOR

Minerals Management Service

Gulf of Mexico, Outer Continental Shelf (OCS), Central Planning Area, Oil and Gas Lease Sale 198 (2006) Environmental Assessment

AGENCY: Minerals Management Service, Interior.

ACTION: Notice of Availability of an Environmental Assessment.

SUMMARY: The MMS is issuing this notice to advise the public, pursuant to the National Environmental Policy Act of 1969 (NEPA), as amended, 42 U.S.C. 4321 et seq., that MMS has prepared an environmental assessment (EA) for proposed OCS oil and gas Lease Sale 198 in the Central Gulf of Mexico (GOM) (Lease Sale 198) scheduled for March 2006. Proposed Lease Sale 198 is the fourth Central Planning Area (CPA) lease sale scheduled in the Outer Continental Shelf Oil and Gas Leasing Program: 2002-2007 (5-Year Program, OCS EIS/EA MMS 2002-006). The preparation of this EA is an important step in the decisionmaking process for Lease Sale 198. The proposal for Lease Sale 198 (the offering of all available unleased acreage in the CPA) and its alternatives (the proposed action excluding the unleased blocks near biologically sensitive topographic features, the proposed action excluding the unleased blocks within 15 miles of the Baldwin County, Alabama, Coast, and no action) were identified by the MMS Director in January 2002 following the Call for Information and Nominations/Notice of Intent to Prepare an Environmental Impact Statement (EIS) and were analyzed in the Gulf of Mexico OCS Oil and Gas Lease Sales: 2003-2007; Central Planning Area Sales 185, 190, 194, 198, and 201; Western Planning Area Sales 187, 192, 196, and 200—Final Environmental Impact Statement; Volumes I and II (Multisale EIS, OCS EIS/EA MMS 2002-052). The Multisale EIS analyzed the effects of a typical CPA lease sale by presenting a set of ranges for resource estimates, projected exploration and development activities, and impact-producing factors for any of the proposed CPA lease sales. The level of activities projected for proposed Lease Sale 198 falls within these ranges. In this EA, which tiers from the Multisale EIS and incorporates that document by reference, MMS reexamined the potential environmental effects of the proposed action and its alternatives based on any new information regarding potential impacts and issues that were not available at the time the Multisale EIS was prepared. No new significant impacts were identified for proposed Lease Sale 198 that were not already assessed in the Multisale EIS. As a result, MMS determined that a supplemental EIS is not required and prepared a Finding of No New Significant Impact (FONNSI).

FOR FURTHER INFORMATION CONTACT: Mr. James F. Bennett, Minerals Management Service, Minerals Management Service, Headquarters Office, Attention: Environmental Division, Environmental Assessment Branch (MS 4042), Parkway Atrium Building, 381 Elden Street, Herndon, Virginia 20170-4817. You may also contact Mr. Bennett by telephone at (703) 787-1660.

SUPPLEMENTARY INFORMATION: In November 2002, MMS prepared a Multisale EIS that addressed nine proposed Federal actions that offer for lease areas on the GOM OCS that may contain economically recoverable oil and gas resources. Federal regulations allow for several related or similar proposals to be analyzed in one EIS (40 CFR 1502.4). Since each proposed lease sale and its projected activities are very similar each year for each planning area, a single EIS was prepared for 9 of the 10 CPA and Western Planning Area (WPA) lease sales scheduled in the 5-Year Program. Under the 5-Year Program, five annual areawide lease sales are scheduled for the CPA (Lease Sales 185, 190, 194, 198, and 201) and five annual areawide lease sales are scheduled for the WPA (Lease Sales 184, 187, 192, 196, and 200). Lease Sale 184 was not addressed in the Multisale EIS; a separate EA was prepared for that proposal. The Multisale EIS addressed CPA Lease Sales 185, 190, 194, 198, and 201 scheduled for 2003, 2004, 2005, 2006, and 2007, respectively, and WPA Lease Sales 187, 192, 196, and 200 scheduled for 2003, 2004, 2005, and 2006, respectively. Although the Multisale EIS addresses nine proposed lease sales, at the completion of the EIS process, decisions were made only for proposed CPA Lease Sale 185 and proposed WPA Lease Sale 187. In the year prior to each subsequent proposed lease sale, an additional NEPA review (an EA) will be conducted to address any new information relevant to that proposed action. After completion of the EA, MMS will determine whether to prepare a FONNSI or a Supplemental EIS. The MMS will then prepare and send Consistency Determinations (CD's) to the affected States to determine whether the proposed lease sale is consistent with their federally-approved State coastal zone management programs. Finally, MMS will solicit comments via the proposed Notice of Sale (NOS) from the governors of the affected States on the size, timing, and location of the proposed lease sale. The tentative schedule for the prelease decision process for Lease Sale 198 is as follows: CD's sent to affected States, upon publication in the Federal Register of the NOA; proposed NOS sent to governors of the affected States, upon publication in the Federal Register of the NOA; Final Notice of Sale published in the Federal Register, February 2006; and Lease Sale 198, March 2006. To obtain single copies of the Multisale EIS, you may contact the MMS, Minerals Management Service, Attention: Environmental Division, Environmental Assessment Branch (MS 4042), 381 Elden Street, Herndon, Virginia 20170-4817. You may also view the Multisale EIS or check the list of libraries that have copies of the Multisale EIS on the MMS Web site at http://www.gomr.mms.gov.

Public Comments

Interested parties are requested to send comments on this EA/FONNSI within 30 days of this Notice's publication. Comments may be submitted in written form enclosed in an envelope labeled “Comments on CPA Lease Sale 198 EA” and mailed (or hand carried) to the MMS, Minerals Management Service, Attention: Environmental Division, Environmental Assessment Branch (MS 4042), 381 Elden Street, Herndon, Virginia 20170-4817.

All comments received will be considered in the decisionmaking process for Lease Sale 198.

EA Availability

To obtain a copy of this EA, you may contact the Minerals Management Service, Attention: Environmental Division, Environmental Assessment Branch (MS 4042), 381 Elden Street, Herndon, Virginia 20170-4817. You may also view this EA on the MMS Web site at http://www.gomr.mms.gov.

Dated: October 31, 2005.
Thomas A. Readinger,
Associate Director for Offshore Minerals Management.

[FR Doc. 05-23074 Filed 11-21-05; 8:45 am]

BILLING CODE 4310-MR-P